FEDERAL COMMUNICATIONS COMMISSION

47 CFR Part 73

[DA 04-2498; MB Docket No. 04-316; RM-11047]

Radio Broadcasting Services; Morrison and Sparta, TN

AGENCY: Federal Communications Commission.

ACTION: Proposed rule.

SUMMARY: This document sets forth a proposal to amend the FM Table of Allotments, Section 73.202(b) of the Commission's rules, 47 CFR 73.202(b). The Audio Division requests comment on a petition and amendment to petition filed by Clear Channel Broadcasting Licenses, Inc., licensee of Station WRKK-FM, Channel 288A, Sparta, Tennessee. Petitioner proposes to delete Channel 288A at Sparta, Tennessee, to allot Channel 287A at Morrison, Tennessee, and to modify the license of Station WRKK-FM accordingly. The coordinates for Channel 287A at Morrison are 35-37-27 North Latitude and 85-53-37 West Longitude. See SUPPLEMENTARY INFORMATION infra.

DATES: Comments must be filed on or before October 4, 2004, and reply comments on or before October 19, 2004.

ADDRESSES: Federal Communications Commission, Washington, DC 20554. In addition to filing comments with the FCC, interested parties should serve counsel for the petitioner and counsel for Clear Channel Broadcasting Licenses, Inc., as follows: Gregory L. Masters, Evan S. Henschel, Wilen Rein & Fielding LLP, 1776 K Street, NW., Washington, DC 20006.

FOR FURTHER INFORMATION CONTACT: Deborah A. Dupont, Media Bureau (202) 418-7072.

SUPPLEMENTARY INFORMATION: This is a synopsis of the Commission's Further Notice of Proposed Rule Making, MB Docket No. 04-316, adopted August 10, 2004 and released August 12, 2004. The full text of this Commission decision is available for inspection and copying during normal business hours in the FCC Reference Information Center (Room CY-A257), 445 12th Street, SW., Washington, DC. The complete text of this decision may also be purchased from the Commission's copy contractor, Best Copy and Printing, Inc., 445 12th Street, SW, Room CY-B402, Washington, DC, 20554, (800) 378-3160, or via the company's Web site, http://www.bcpiweb.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Tennessee, is amended by adding Morrison, Channel 287A and by removing Sparta, Channel 288A.

Federal Communications Commission.
John A. Karousos,
Assistant Chief, Audio Division, Media Bureau.

[FR Doc. 04-19026 Filed 8-18-04; 8:45 am]

BILLING CODE 6712-01-P